ENVIRONMENTAL PROTECTION AGENCY

[FRL-6565-7]

Proposed Administrative Settlement under the Comprehensive Environmental Response, Compensation, and Liability Act and the Resource Conservation and Recovery Act; In The Matter of: Redding Life Care, LLC

AGENCY: Environmental Protection Agency.

ACTION: Notice of proposed prospective purchaser agreement and request for public comment.

SUMMARY: The Environmental Protection Agency (“EPA”) is proposing to enter into a prospective purchaser agreement to address claims under sections 106 and 107(a) of the Comprehensive Environmental Response, Compensation and Liability Act of 1980, as amended (CERCLA), 42 U.S.C. 9601 et seq., and section 7003 of the Solid Waste Disposal Act, as amended by the Resource Conservation and Recovery Act, and further amended by the Hazardous and Solid Waste Amendments of 1984 (“RCRA”), 42 U.S.C. 6973. EPA is entering into this agreement under the authority of CERCLA Section 101 et seq. which provides EPA with authority to consider, compromise, and settle a claim under Sections 106 and 107 of CERCLA for costs incurred by the United States if the claim has not been referred to the U.S. Department of Justice for further action. Notice is being published to inform the public of the proposed settlement and of the opportunity for a public meeting in Redding, Connecticut and to comment on the proposed settlement. The settlement is intended to resolve the liability of Redding Life Care, LLC, under CERCLA and Section 7003 of RCRA for remedial activities Redding Life Care, LLC, will perform at the Gilbert & Bennett Site at 22 Redding Road in Redding, Connecticut. The settlement has been approved by EPA Region I and the United States Department of Justice, subject to review by the public pursuant to this Notice. EPA will consider all comments received and may modify or withdraw its consent to the settlement if comments received disclose facts or considerations which indicate that the settlement is inappropriate, improper or inadequate.

DATES: Comments on the proposed settlement and requests for a public meeting in Redding, Connecticut must be provided on or before April 27, 2000.

ADDRESSES: The proposed settlement is available for public inspection at the offices of EPA, Region I, One Congress Street, Suite 1100, Boston, Massachusetts 02114-2023. A copy of the proposed settlement may be obtained from Eve S. Vaudo, U.S. Environmental Protection Agency, New England, Region I, One Congress Street, Suite 1100 (SES), Boston, Massachusetts 02114-2023, (617) 918-1089. Comments and requests for a public meeting should be addressed to Eve Vaudo at the address set forth above and should refer to: Agreement and Covenant Not to Sue Re: Gilbert & Bennett Site, U.S. EPA Docket No. CERCLA-1-99-0071.

FOR FURTHER INFORMATION CONTACT: Eve S. Vaudo, U.S. Environmental Protection Agency, One Congress Street, Suite 1100, Mailcode SES, Boston, Massachusetts 02114-2023, (617) 918-1089.

Dated: December 2, 1999.
John P. DeVillars,
Regional Administrator, Region I.

[FR Doc. 00-7623 Filed 3-27-00; 8:45 am]

BILLING CODE 6560-50-P